DEPARTMENT OF ENERGY

Federal Energy Regulatory Commission

[Project No. 2310-193—California; Project No. 14531-000—California; Project No. 14530-000—California; Project No. 2266-102—California]

Pacific Gas and Electric Company Nevada Irrigation District; Notice of Availability of the Final Environmental Impact Statement for the Upper Drum-Spaulding, Lower Drum, Deer Creek, and Yuba-Bear Hydroelectric Projects

In accordance with the National Environmental Policy Act of 1969 and the Federal Energy Regulatory Commission (Commission or FERC) regulations contained in the Code of Federal Regulations (CFR)(18 CFR part 380 [FERC Order No. 486, 52 FR 47897]), the Office of Energy Projects has reviewed the applications for license for Pacific Gas and Electric Company's Upper Drum-Spaulding (FERC No. 2310), Lower Drum (FERC No. 14531), and Deer Creek (FERC No. 14530) Projects and Nevada Irrigation District's Yuba-Bear Project (FERC No. 2266) and has prepared a final environmental impact statement (EIS) for the projects.

The Upper Drum-Spaulding, Lower Drum, and Deer Creek Projects are located within three primary river basins, the South Yuba River, Bear River, and North Fork of the North Fork American River, in Nevada and Placer Counties, California, and occupy 994 acres of federal lands administered by the Forest Service, Bureau of Land Management (BLM), and Bureau of Reclamation. The Yuba-Bear Project is located within three major river basins, the Middle Yuba River, South Yuba River, and Bear River, in Sierra, Nevada, and Placer Counties, California, and occupies 1,748 acres of federal lands administered by the Forest Service and BLM.

The final EIS contains staff's analysis of the applicants' proposals and the alternatives for relicensing the four projects. The final EIS documents the views of governmental agencies, non-governmental organizations, affected Indian tribes, the public, the license applicants, and Commission staff.

A copy of the final EIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via email of new filings and issuances related to this or other pending projects. For assistance, contact FERC Online Support.

All comments must be filed by Monday, February 9, 2015, and should reference Project Nos. 2310-193, 14531-000, 14530-000, and/or 2266-102. Comments may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support. Although the Commission strongly encourages electronic filing, documents may also be paper-filed. To paper-file, mail an original to: Kimberly D. Bose, Secretary, Federal Energy Regulatory Commission, 888 First Street NE., Washington, DC 20426.

For further information, please contact Alan Mitchnick at (202) 502-6074 or at alan.mitchnick@ferc.gov.

Dated: December 19, 2014.
Kimberly D. Bose,
Secretary.

[FR Doc. 2014-30423 Filed 12-29-14; 8:45 am]

BILLING CODE 6717-01-P